DEPARTMENT OF COMMERCE

International Trade Administration

[A-570-848]

Freshwater Crawfish Tail Meat From the People's Republic of China: Preliminary Results of Antidumping Duty Administrative Review and New Shipper Review; 2014-2015

AGENCY: Enforcement and Compliance, International Trade Administration, Department of Commerce.

SUMMARY: The Department of Commerce (the Department) is conducting an administrative review and a new shipper review of the antidumping duty order on freshwater crawfish tail meat from the People's Republic of China (PRC). The period of review (POR) for the administrative review and the new shipper review is September 1, 2014, through August 31, 2015. The Department preliminarily determines that imports of freshwater crawfish tail meat from the PRC are being sold in the United States at prices below normal value. The Department also preliminarily determines that the new shipper review respondent, Hubei Qianjiang Huashan Aquatic Food and Product Co., Ltd. (Hubei Qianjiang), has not made sales of freshwater crawfish tail meat at prices below normal value. We invite interested parties to comment on these preliminary results.

DATES: Effective October 12, 2016.

FOR FURTHER INFORMATION CONTACT: Hermes Pinilla at (202) 482-3477 (China Kingdom (Beijing) Import & Export Co., Ltd.), Catherine Cartsos (202) 482-1757 (Xuzhou Jinjiang Foodstuffs Co., Ltd.), or Michael Romani (202) 482-0198 (Hubei Qianjiang), AD/CVD Operations, Office I, Enforcement and Compliance, International Trade Administration, U.S. Department of Commerce, 1401 Constitution Avenue NW., Washington, DC 20230.

SUPPLEMENTARY INFORMATION:

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, the Department added HTSUS classification number 0306.29.01.00 to the scope description pursuant to a request by U.S. Customs and Border Protection (CBP). While the HTSUS numbers are provided for convenience and customs purposes, the written description is dispositive. A full description of the scope of the order is contained in the Preliminary Decision Memorandum.¹

¹ See Memorandum from Christian Marsh, Deputy Assistant Secretary for Antidumping and Countervailing Duty Operations, to Ronald K. Lorentzen, Acting Assistant Secretary for Enforcement and Compliance, entitled, “Decision Memorandum for the Preliminary Results of the Antidumping Duty Administrative Review and New Shipper Review: Freshwater Crawfish Tail Meat from the People's Republic of China,” dated concurrently with, and hereby adopted by, this notice (Preliminary Decision Memorandum).

Rescission of Review in Part

We rescinded the review in part with respect to Deyan Aquatic Products and Food Co., Ltd (Deyan), Hubei Yuesheng Aquatic Products Co., Ltd., Nanjing Gemsen International Co., Ltd., Weishan Hongda Aquatic Food Co., Ltd., Xiping Opeck Food Co., Ltd., and Yancheng Hi-King Agriculture Developing Co., Ltd.²

² See Freshwater Crawfish Tail Meat From the People's Republic of China: Rescission of Antidumping Duty Administrative Review in Part; 2014-2015, 81 FR 15507 (March 23, 2016).

PRC-Wide Entity

The Department's policy regarding conditional review of the PRC-wide entity applies to this administrative review.³ Under this policy, the PRC-wide entity will not be under review unless a party specifically requests, or the Department self-initiates, a review of the entity. Because no party requested a review of the PRC-wide entity in this review, the entity is not under review and the entity's rate is not subject to change (i.e., 223.01 percent).⁴

³ See Antidumping Proceedings: Announcement of Change in Department Practice for Respondent Selection in Antidumping Duty Proceedings and Conditional Review of the Nonmarket Economy Entity in NME Antidumping Duty Proceedings, 78 FR 65963 (November 4, 2013).

⁴ See Freshwater Crawfish Tail Meat from the People's Republic of China; Notice of Final Results of Antidumping Duty Administrative Review, 68 FR 19504 (April 21, 2003).

Verification

As provided in section 782(i) of the Act, we intend to verify the information provided by Hubei Qianjiang in the new shipper review of freshwater crawfish tail meat from the PRC using standard verification procedures, including on-site inspection of the producer's and exporter's facilities, and examination of relevant sales and financial records. Our verification results will be outlined in the verification report for Hubei Qianjiang after completion of the verification.

Methodology

The Department is conducting these reviews in accordance with section 751(a)(1)(B), and (a)(2)(B) of the Tariff Act of 1930, as amended (the Act), and 19 CFR 351.214. Export price is calculated in accordance with section 772(c) of the Act. Because the PRC is a non-market economy (NME) within the meaning of section 771(18) of the Act, normal value has been calculated in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in the Department's Central Records Unit, Room B8024 of the main Department of Commerce building. In addition, a complete version of the Preliminary Decision Memorandum can be found at http://enforcement.trade.gov/frn/. The signed and the electronic versions of the Preliminary Decision Memorandum are identical.

Preliminary Results of Administrative Review

The Department determines that the following preliminary dumping margins exist for the administrative review covering the period September 1, 2014, through August 31, 2015:

Producer/Exporter | Weighted- average margin (percent)
China Kingdom (Beijing) Import & Export Co., Ltd | 13.90
Xuzhou Jinjiang Foodstuffs Co., Ltd | 12.21

Preliminary Results of New Shipper Review

As a result of the new shipper review, the Department preliminarily determines that a dumping margin of 0.00 percent exists for merchandise produced and exported by Hubei Qianjiang, covering the period September 1, 2014, through August 31, 2015.⁵

⁵ The Department reached this conclusion based on the totality of the circumstances surrounding the reported sale. See Preliminary Decision Memorandum, Bona Fides Analysis section at 3.

Disclosure

We intend to disclose calculations performed in these preliminary results to parties within five days after public announcement of the preliminary results.⁶

⁶ See 19 CFR 351.224(b).

Public Comment

Case briefs or other written comments may be submitted to the Assistant Secretary for Enforcement and Compliance no later than seven days after the date on which the final verification report is issued in this proceeding and rebuttal briefs, limited to issues raised in case briefs, may be submitted no later than five days after the deadline date for case briefs.⁷ Pursuant to 19 CFR 351.309(c)(2) and (d)(2), parties who submit case briefs or rebuttal briefs in this proceeding are encouraged to submit with each argument: (1) A statement of the issue; (2) a brief summary of the argument; and (3) a table of authorities.⁸

⁷ See 19 CFR 351.309. See also 19 CFR 351.303 (for general filing requirements).

⁸ See 19 CFR 351.309(c)(2).

Interested parties who wish to request a hearing, must submit a written request to the Assistant Secretary for Enforcement and Compliance. All documents must be filed electronically using ACCESS. An electronically filed document must be received successfully in its entirety by ACCESS by 5:00 p.m. Eastern Time within 30 days after the date of publication of this notice.⁹ Requests should contain: (1) The party's name, address, and telephone number; (2) the number of participants; and (3) a list of issues to be discussed. Issues raised in the hearing will be limited to those raised in the respective case briefs. If a request for a hearing is made, we will inform parties of the scheduled date for the hearing, which will be held at the U.S. Department of Commerce, 1401 Constitution Avenue NW., Washington, DC 20230, at a time and location to be determined.¹⁰ Parties should confirm, by telephone or email, the date, time, and location of the hearing.

⁹ See 19 CFR 351.310(c).

¹⁰ Id.

Unless the deadline is extended the Department will issue the final results of these reviews, including the results of its analysis of issues raised by parties in their comments, within 120 days after the publication of these preliminary results, pursuant to section 751(a)(3)(A) of the Act and 19 CFR 351.213(h).

Assessment Rates

Upon issuing the final results, the Department will determine, and CBP shall assess, antidumping duties on all appropriate entries covered by these reviews.¹¹ If a respondent's weighted-average dumping margin is above de minimis (i.e., 0.50 percent) in the final results of these reviews, the Department will calculate an importer-specific assessment rate on the basis of the ratio of the total amount of dumping calculated for each importer's examined sales and, where possible, the total entered value of sales.¹²

¹¹ See 19 CFR 351.212(b)(1).

¹² Id.

In these preliminary results, the Department applied the assessment rate calculation method adopted in the Final Modification for Reviews, i.e., on the basis of monthly average-to-average comparisons using only the transactions associated with the importer with offsets being provided for non-dumped comparisons.¹³ Where either the respondent's weighted-average dumping margin is zero or de minimis, or an importer-specific assessment rate is zero or de minimis, we will instruct CBP to liquidate the appropriate entries without regard to antidumping duties.¹⁴

¹³ See Antidumping Proceeding: Calculation of the Weighted-Average Dumping Margin and Assessment Rate in Certain Antidumping Duty Proceedings; Final Modification, 77 FR 8101 (February 14, 2012) (Final Modification for Reviews).

¹⁴ See 19 CFR 351.106(c)(2).

For entries that were not reported in the U.S. sales databases submitted by companies individually examined during this review, the Department will instruct CBP to liquidate such entries at the PRC-wide rate. We intend to issue assessment instructions to CBP 15 days after the date of publication of the final results of these reviews.

Cash Deposit Requirements

The following cash deposit requirements will be effective upon publication of the final results of these reviews for shipments of the subject merchandise from the PRC entered, or withdrawn from warehouse, for consumption on or after the publication date, as provided by section 751(a)(2)(C) of the Act: (1) In the administrative review, for the companies listed above that have a separate rate, the cash deposit rate will be that established in the final results of these reviews (except if the rate is zero or de minimis, i.e., less than 0.5 percent, then no cash deposit will be required) (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter.

With respect to Hubei Qianjiang, the new shipper respondent, the Department established a combination cash deposit rate for this company consistent with its practice as follows: (1) For subject merchandise produced and exported by Hubei Qianjiang, the cash deposit rate will be the rate established for Hubei Qianjiang in the final results of the new shipper review; (2) for subject merchandise exported by Hubei Qianjiang, but not produced by Hubei Qianjiang, the cash deposit rate will be the rate for the PRC-wide entity; and (3) for subject merchandise produced by Hubei Qianjiang but not exported by Hubei Qianjiang, the cash deposit rate will be the rate applicable to the exporter.

These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in the Department's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation. We are issuing and publishing the preliminary results of these reviews in accordance with sections 751(a)(1), 751(a)(2)(B)(iv), 751(a)(3), 777(i) of the Act, and 19 CFR 351.213, 351.214 and 351.221(b)(4).

Dated: October 5, 2016.
Ronald K. Lorentzen,
Acting Assistant Secretary for Enforcement and Compliance.

Appendix

List of Topics Discussed in the Preliminary Decision Memorandum

1. Summary

2. Background

3. Scope of the Order

4. Bona Fides Analysis

5. Verification

6. Discussion of Methodology

Non-Market-Economy Country Status

Surrogate Country

Separate Rates

Absence of De Jure Control

Absence of De Facto Control

Fair Value Comparisons

U.S. Price

Date of Sale

Normal Value

Surrogate Values

7. Currency Conversion

8. Recommendation

[FR Doc. 2016-24656 Filed 10-11-16; 8:45 am]

BILLING CODE 3510-DS-P